DEPARTMENT OF TRANSPORTATION

Federal Highway Administration

Environmental Impact Statement: Queens County, NY

AGENCY: Federal Highway Administration (FHWA, United States Department of Transportation (DOT).

ACTION: Revised notice of intent.

SUMMARY: The FHWA is issuing this revised notice to advise the public that the FHWA will not be preparing an Environmental Impact Statement (EIS) for the proposed Bridge Rehabilitation and Interchange Improvements Project on the Long Island Expressway (LIE) from the Grand Central Parkway (GCP) to the Van Wyck Expressway, Queens County, NY. A Notice of Intent to prepare an EIS was published in the Federal Register on March 12, 2004.

FOR FURTHER INFORMATION CONTACT: Jeffrey W. Kolb, Division Administrator, Federal Highway Administration, New York Division, Leo W. O'Brien Federal Building, 9th Floor, Clinton Avenue and North Pearl Street, Albany, New York 12207, Telephone: (518) 431-4127.

or

Phillip Eng, Regional Director, NYSDOT Region 11; Hunters Point Plaza, 47-40 21st Street, Long Island City, NY 11101, Telephone: 718-482-4526.

SUPPLEMENTARY INFORMATION: The FHWA, in cooperation with the New York State Department of Transportation previously intended to prepare an EIS for the Bridge Rehabilitation and Interchange Improvements Project on the Long Island Expressway from the Grand Central Parkway to the Van Wyck Expressway, Queens County, New York.

The purpose of the original Project was to address various geometric, operational, and structural deficiencies associated with the interchange. The project proposed direct connector ramps and new structures.

An Expanded Project Proposal (EPP) was issued in 2002 and the project was programmed with a cost estimate of $130 million. During preliminary design, the cost estimate increased to approximately $250 million and the operational improvements for the build alternatives were found not to be as effective in reducing congestion as expected. Also, the Region's capital program has been reduced and available funding has been re-allocated to more critical needs.

Currently, the bridges within the interchange have a number of severely deteriorated elements, including the concrete decks and superstructures, that require prompt treatment to keep them in service and to address urgent safety concerns. The bridges also do not meet current geometric standards.

Since the proposed operational benefits from the build alternatives were found not to be as expected, it is proposed to terminate the EIS. However, the three bridges carrying the LIE and service roads over the GCP have significant deck and steel superstructure deterioration that require prompt treatment to keep them in service. The infrastructure improvements being considered will not have a significant impact on the environment. To address these bridge conditions, a reduced scope project will be progressed as a NEPA Class II Categorical Exclusion.

Issued on August 25, 2010.
Jeffrey W. Kolb,
Division Administrator, Federal Highway Administration, Albany, NY.

[FR Doc. 2010-21768 Filed 9-3-10; 8:45 am]

BILLING CODE M